DEPARTMENT OF COMMERCE

International Trade Administration

[A-583-008]

Certain Circular Welded Carbon Steel Pipes and Tubes From Taiwan

AGENCY: Import Administration, International Trade Administration, Department of Commerce.

ACTION: Notice of extension of time limit for preliminary results of antidumping duty administrative review.

SUMMARY: The Department of Commerce is extending the time limit for the preliminary results of the administrative review of the antidumping duty order on certain circular welded carbon steel pipes and tubes from Taiwan. The review covers one manufacturer/exporter of the subject merchandise, and the period of review May 1, 1998 through April 30, 1999.

EFFECTIVE DATE: Febraury 9, 2000.

FOR FURTHER INFORMATION CONTACT: Thomas Killiam or Robert James, Enforcement Group III, Office 8, Import Administration, International Trade Administration, U.S. Department of Commerce, 14th Street and Constitution Avenue, NW, Washington, DC 20230; telephone (202) 482-3019 or 482-0649, respectively.

SUPPLEMENTARY INFORMATION: We initiated the review on June 30, 1999 (64 FR 35125) following a request made by the petitioners on May 28, 1999. Section 751(a)(3)(A) of the Act directs the Department to make a preliminary determination within 245 days for each administrative review. The section provides, however, that if it is not practicable to complete the review within the foregoing time, the administering authority may extend that 245-day period to 365 days. Due to the reasons enumerated in the Memorandum from Richard Weible to Joseph A. Spetrini, Certain Circular Welded Carbon Steel Pipes and Tubes from Taiwan, Extension of Time Limit for the Preliminary Results, dated January 28, 2000, the Department has determined that it is not practicable to complete this review within the 245-day time limit.

Therefore, in accordance with section 751(a)(3)(A) of the Act, the Department is extending the time limits for the preliminary results of the administrative review by 120 days to May 30, 2000.

Dated: January 28, 2000.
Richard O. Weible,
Acting Deputy Assistant Secretary for AD/CVD Enforcement Group III.

[FR Doc. 00-2972 Filed 2-8-00; 8:45 am]

BILLING CODE 3510-DS-P